DEPARTMENT OF HEALTH AND HUMAN SERVICES

Centers for Disease Control and Prevention

Announcement of the CDC-Wide Research Agenda Development Public Participation Meetings

ACTION: Notice.

SUMMARY: The Centers for Disease Control and Prevention/Agency for Toxic Substances and Disease Registry (CDC) is developing a CDC-Wide Research Agenda, and invites the public to provide input. Four Research Agenda Development Public Participation Meetings will be held across the country (March 8, 2005, Arlington, VA; March 18, 2005, Atlanta, GA; March 24, 2005, Seattle, WA; and March 31, 2005, Columbus, OH).

Background: On January 10, 2005, the Centers for Disease Control and Prevention launched an effort to develop its first ever, agency-wide public health research agenda. The new agenda will address and support CDC's health protection goals (http://www.cdc.gov/futures/Goals_01-6-05.pdf). The agenda will also provide overall guidance for CDC's intramural and extramural research as well as serve as an effective planning and communication tool for CDC's public health research.

Request for Comments: The public is invited to participate in the development of the CDC-Wide Research Agenda. The CDC will host four Research Agenda Development Public

Participation Meetings. These events will give researchers, representatives of CDC key partner organizations and the public the opportunity to voice their opinions regarding the future direction of CDC's public health research. The four meetings will be held: March 8, 2005, 8:30 a.m.-5 p.m., Hilton Crystal City Hotel at Ronald Reagan National Airport, 2399 Jefferson Davis Highway, Arlington, VA 22202; telephone 703-418-6800. Registration begins February 25, 2005. March 18, 2005, 8:30 a.m.-5 p.m., National Center for Primary Care at Morehouse School of Medicine, 720 Westview Dr., SW., Atlanta, GA 30310; telephone 404-756-5740. Registration begins March 4, 2005. March 24, 2005, 8:30 a.m.-5 p.m., Crowne Plaza Seattle, 1113 Sixth Avenue, Seattle, WA 98101; telephone 206-464-1980. Registration begins March 11, 2005. March 31, 2005, 8:30 a.m.-5 p.m., Hyatt Regency, 350 North High Street, Columbus, OH, 43215; telephone 614-463-1234. Registration begins March 18, 2005.

Attendance by the public will be limited to the space available. Please communicate with the individuals listed below to request special accommodations for persons with disabilities.

All those wishing to attend any of the meetings must register. See specific meeting above for date of registration. To register, please visit http://www.maximumtechnology.com/cdcreg.htm. Additional information will be available as of February 21st via the Office of Public Health Research Web site, http://www.cdc.gov/od/ophr/, or may be obtained by communicating with the contact whose name and telephone number is listed below.

Contacts: Ms. Mollie Ergle, Meeting Coordinator, Office of Public Health Research, Centers for Disease Control and Prevention, Mail Stop E-72 1600 Clifton Rd. NE., Atlanta, GA 30333, E-mail: mergle@cdc.gov. Phone: 404-498-0132; Fax: 404-498-0011.

The Director, Management Analysis and Services Office, has been delegated the authority to sign Federal Register notices pertaining to announcements of meetings and other committee management activities for both CDC and ATSDR.

Dated: February 9, 2005.
Alvin Hall,
Director, Management Analysis and Services Office, Centers for Disease Control and Prevention.

[FR Doc. 05-2852 Filed 2-14-05; 8:45 am]

BILLING CODE 4163-18-P